DEPARTMENT OF THE INTERIOR

National Park Service

National Register of Historic Places; Notification of Pending Nominations

Nominations for the following properties being considered for listing in the National Register were received by the National Park Service before May 5, 2001. Pursuant to section 60.13 of 36 CFR Part 60 written comments concerning the significance of these properties under the National Register criteria for evaluation may be forwarded to the National Register, National Park Service,1849 C St. NW., NC400, Washington, DC 20240. Written comments should be submitted by June 1, 2001.

Beth L. Savage,
Acting Keeper of the National Register Of Historic Places.

Arkansas

Sebastian County

West Garrison Historic District (Boundary Increase), Roughly bounded by 13th St., North B, 1st St., and Parker Ave., Fort Smith, 01000614

Hawaii

Maui County

Gomes, Frank and Theresa, House, 32 Pakani Place, Makawao, 01000616

Hana Belt Road, Hana Hwy (HI 360), Pi'ilani Hwy (HI 31), Makawao, 01000615

Indiana

Bartholomew County

Aikens, David, House, 2325 Jonesville Rd., Columbus, 01000621

Carroll County

Wilson Bridge, 0.6 mi. W of Cty Rd. 450W on Cty Rd. 300N over Deer Creek, Delphi, 01000623

Hancock County

Reeves, Jane Ross, Octagon House, 400 S. Railroad St., Shirley, 01000620

Knox County

Shadowwood, 6451 E. Wheatland Rd., Vincennes, 01000618

Lake County

Clark, Wellington A., House, 227 S. Court St., Crown Point, 01000619

Tippecanoe County

Park Mary Historic District, Roughly bounded by Union, Hartford, N. 6th, and N. 14th Sts., Lafayette, 01000617

St. Mary Historic District,

Roughly bounded by Main, South, 10th and 14th Sts., Lafayette, 01000622

Louisiana

Livingston Parish

Castleberry Boarding House, 18290 Cooper St., Port Vincent, 01000624

Massachusetts

Hampshire County

Parsons, Shepherd and Damon, Houses Historic District, 546,58 and 66 Bridge St., Northampton, 01000627

Plymouth County

Adams, Frederic C., Public Library, 33 Summer St., Kingston, 01000625

Worcester County

Cambridge Grant Historic District, 205-287 Russell Hill Rd., 15 Wilker Rd., Ashburnham, 01000626

Missouri

Cole County

Gensky, H.E., Grocery Store Building, 423 Cherry St., Jefferson City, 01000628

New Hampshire

Carroll County

Eastman, William K., House, 100 Main St., Conway, 01000629

Grafton County

Piermont Bridge, NH 25 over Connecticut R.at Vermont State line, Piermont, 01000630

South Carolina

Marion County

Marion High School, 719 N. Main St., Marion, 01000631

South Dakota

Bon Homme County

Wagner, Joseph V., House, (Federal Relief Construction in South Dakota MPS) 112 Lidice St., Tabor, 01000633

Brookings County

Brookings Central Residential Historic District (Boundary Increase), (Schools in South Dakota MPS), 601 4th St., and 521 4th St., Brookings, 01000639

Codington County

Tarbell, Dr., House, 304 Second Ave. SE, Watertown, 01000634

Hughes County

Hipple, John E. and Ruth, House, 219 N. Highland, Pierre, 01000641

Hutchinson County

Schnaidt, Edward, House, 215 South Pearl, Menno, 01000632

Kingsbury County

Royhl, Adam and Minnie, House, 203 S. Third St., Arlington, 01000638

McCook County

Stark Round Barn, (South Dakota's Round and Polygonal Barns and Pavilions MPS), 0.3 mi W of Chicago and Northwestern RR, Unityville, 01000637

Turner County

Higinbotham, William, House, 511 Main St., Centerville, 01000635

Walworth County

Java Depot, Old Railroad Grade, Java, 01000640

Yankton County

Aggergaard Manor, Thompson St., Irene, 01000636

A request for REMOVAL has been made for the following resources:

Minnesota

Carver County

Kusske and Hahn Saloon (Carver County MRA), Cty. Hwy 23, Mayer vicinity 80001977

Paine County

Pine City Naval Military Armory (Pine County MRA), 1st Ave., Pine City 8000211

[FR Doc. 01-12435 Filed 5-16-01; 8:45 am]

BILLING CODE 4310-70-P